ENVIRONMENTAL PROTECTION AGENCY

[ER-FRL-6685-1]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (71 FR 17845).

Draft EISs

EIS No. 20060431, ERP No. D-COE-E67005-NC, PCS Phosphate Mine Continuation, Proposes Continued Mining of the Phosphate Reserve in an Economically Viable Fashion, Beaufort County, NC

Summary: EPA objected to issuance of a permit for the applicant-preferred alternative, which would impact 2,408 acres of waters/wetlands of the U.S. and 7.3 miles of streams. EPA noted that the applicant-preferred alternative is the most environmentally damaging of the alternatives that were evaluated and would represent one of the largest wetland acreage loss ever permitted in North Carolina. EPA encouraged the Corps to determine if there may be another alternative that would have less environmental impact and still be practicable, and recommended specific refinements to other alternatives. EPA requested information in the Final EIS, including additional information about the economic analyses, determination of appropriate stream mitigation ratios, clarification of phosphogypsum stack impacts on surficial aquifers, and mitigation of elevated cadmium in reclamation sites.

Rating EO2.

EIS No. 20060471, ERP No. D-FHW-F40812-IL, Prairie Parkway Study, Transportation System Improvement between Interstate 80 (I-80) and Interstate 88 (I-88) Grundy, Kendall and Kane Counties, IL

Summary: EPA expressed environmental concerns about direct and indirect impacts to wetlands, streams and forests, as well as cumulative impacts.

Rating EC2.

EIS No. 20060542, ERP No. D-FRC-L05239-00, Spokane River and Post Falls Hydroelectric Project, Applications for two New Licenses for Existing 14.75 (mw) Post Falls No. 12606 and 122.9 (mw) Spokane River No. 2545, Kootenai and Benewah Counties, ID and Spokane, Lincoln and Stevens Counties, WA

Summary: EPA expressed environmental concerns about degradation of water quality from the proposed relicensing, and requested additional information on metal contaminants and sediment supply/transport in the project area.

Rating EC2.

EIS No. 20070008, ERP No. D-AFS-K61165-00, Great Basin Creek South Rangeland Management Projects, Management of 12 Livestock Grazing Allotments, Bridgeport Ranger District, Lyon and Mineral Counties, NV and Mono County, CA

Summary: EPA expressed environmental concerns about the proposed management actions and the potential environmental impacts of these actions. EPA requested additional site- and allotment-specific information and an expedited implementation of corrective management measures where ecosystem and rangeland functions are known to be impaired.

Rating EC2.

Final EISs

EIS No. 20060537, ERP No. F-COE-K36143-CA, American River Watershed, Lower American River Common Features Mayhew Levee Project, Reconstruction, Sacramento County, CA

Summary: No formal comment letter was sent to the preparing agency.

EIS No. 20060544, ERP No. F-FRC-C05149-NY, Niagara Project, Hydroelectric Relicensing Application FERC No. 2216, Niagara River, Niagara County, NY

Summary: The Final EIS addressed EPA's earlier concerns regarding potential cumulative impacts to water levels; therefore, EPA does not object to the proposed relicensing.

EIS No. 20070017, ERP No. F-NRC-C06016-NJ, GENERIC—License Renewal of Nuclear Plants (GEIS) Regarding Oyster Creek Nuclear Generating Station Supplement 28 to NUREG-1437, Located adjacent to Barnegat Bay, Lacy and Ocean Townships, Ocean County, NJ

Summary: EPA continues to have environmental concerns about the use of outdated ichthyoplankton and zooplankton studies. EPA is also concerned about the lack of a complete evaluation of the environmental effects from the continued operation of the facility based on these studies.

EIS No. 20070027, ERP No. F-FRC-K05061-CA, Lake Elsinore Advanced Pumped Storage (LEAPS) Project, Construction and Operation, Application for Hydroelectric License, Special-Use-Permit, FERC No.11858, City of Lake Elsinore, Riverside County, CA

Summary: EPA continues to have environmental concerns about the potential significant adverse impacts to air, water, and habitat resources; and recommended a number of mitigation measures to minimize the potential impacts.

EIS No. 20070031, ERP No. F-AFS-K39101-CA, Lake Davis Pike Eradication Project, To Eradicate Pike and Re-Establish Trout Fishery in the Tributaries, Special-Use-Permit, Plumas National Forest, Plumas County, CA

Summary: EPA continues to have environmental concerns about the tradeoffs from the neutralization process and the mechanisms that will avoid reintroduction of the species.

EIS No. 20070045, ERP No. F-FHW-J40174-UT, Riverdale Road Project (UT-26), Improvement Mobility and Safety between 1900 West in Roy, UT and U.S. Highway 89 (Washington Boulevard) in Odgen, UT, Cities of Roy, Riverdale, South Ogden and Ogden, Weber County, UT

Summary: No formal comment letter was sent to the preparing agency.

Dated: March 13, 2007.
Robert W. Hargrove,
Director, NEPA Compliance Division, Office of Federal Activities.

[FR Doc. E7-4859 Filed 3-15-07; 8:45 am]

BILLING CODE 6560-50-P